DEPARTMENT OF COMMERCE

International Trade Administration

[A-433-812]

Certain Carbon and Alloy Steel Cut-To-Length Plate From Austria: Rescission of Antidumping Duty Administrative Review; 2018-2019

AGENCY: Enforcement and Compliance, International Trade Administration, Department of Commerce.

SUMMARY: The Department of Commerce (Commerce) is rescinding the administrative review of the antidumping duty order on certain carbon and alloy steel cut-to-length plate from Austria for the period May 1, 2018, through April 30, 2019, based on the timely withdrawal of the request for review.

DATES: Applicable August 27, 2019.

FOR FURTHER INFORMATION CONTACT: Preston N. Cox, AD/CVD Operations, Office VI, Enforcement and Compliance, International Trade Administration, U.S. Department of Commerce, 1401 Constitution Avenue NW, Washington, DC 20230; telephone: (202) 482-5041.

SUPPLEMENTARY INFORMATION:

Background

On May 1, 2019, Commerce published in the Federal Register a notice of opportunity to request an administrative review of the antidumping duty order on certain carbon and alloy steel cut-to-length plate from Austria for the period May 1, 2018, through April 30, 2019.¹ On May 31, 2019, voestalpine Böhler Edelstahl GmbH & Co KG and voestalpine Böhler Bleche GmbH & Co KG (collectively, voestalpine), producers/exporters of certain carbon and alloy steel cut-to-length plate, filed a timely request for review, in accordance with section 751(a) of the Tariff Act of 1930, as amended (the Act), and 19 CFR 351.213(b).² Pursuant to this request, and in accordance with section 751(a) of the Act and 19 CFR 351.221(c)(1)(i), we initiated an administrative review of voestalpine.³ On July 30, 2019, voestalpine filed a timely withdrawal of request for the administrative review and a request for rescission of the administrative review.⁴

¹ See Antidumping or Countervailing Duty Order, Finding, or Suspended Investigation; Opportunity to Request Administrative Review, 84 FR 18479 (May 1, 2019).

² See voestalpine's Letter, “Carbon and Alloy Steel Cut-to-Length Plate from Austria: Request for Antidumping Duty Administrative Review,” dated May 31, 2019.

³ See Initiation of Antidumping and Countervailing Duty Administrative Reviews, 84 FR 33739 (July 15, 2019).

⁴ See voestalpine's Letter, “Antidumping Duty Administrative Review of Certain Carbon and Alloy Steel Cut-To-Length Plate from Austria: Withdrawal of Review Request and Request for Rescission,” dated July 30, 2019.

Rescission of Review

Pursuant to 19 CFR 351.213(d)(1), the Secretary will rescind an administrative review, in whole or in part, if the party that requested the review withdraws the request within 90 days of the date of publication of the notice of initiation of the requested review. As noted above, voestalpine, the only party to file a request for review, withdrew its request by the 90-day deadline. Accordingly, we are rescinding the administrative review of the antidumping duty order on certain carbon and alloy steel cut-to-length plate from Austria for the period May 1, 2018, through April 30, 2019, in its entirety.

Assessment

Commerce will instruct U.S. Customs and Border Protection (CBP) to assess antidumping duties on all appropriate entries of certain carbon and alloy steel cut-to-length plate from Austria. Antidumping duties shall be assessed at rates equal to the cash deposit of estimated antidumping duties required at the time of entry, or withdrawal from warehouse, for consumption, in accordance with 19 CFR 351.212(c)(1)(i). Commerce intends to issue appropriate assessment instructions to CBP 15 days after the date of publication of this notice in the Federal Register.

Notification to Importers

This notice serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: August 22, 2019.
James Maeder,
Deputy Assistant Secretary for Antidumping and Countervailing Duty Operations.

[FR Doc. 2019-18438 Filed 8-26-19; 8:45 am]

BILLING CODE 3510-DS-P